DEPARTMENT OF HEALTH AND HUMAN SERVICES

Administration for Children and Families

Proposed Information Collection Activity; Comment Request

Proposed Projects

Title: Assets for Independence Program Performance Progress Report.

OMB No.: New.

Description

The Assets for Independence (AFI) Act (Title IV of the Community Opportunities, Accountability, and Training and Educational Services Act of 1998, Pub. L. 105-285, [42 U.S.C. 604 note]) requires that organizations operating AFI projects submit annual progress reports.

This request is to create an AFI program specific Performance Progress Report (PPR) to replace the semiannual standard form performance progress report (SF-PPR) and the annual data report. The AFI PPR will collect data on project activities and attributes similar to the reports that it is replacing. The Office of Community Services (OCS) in the Administration for Children and Families (ACF) will use the data collected in the AFI PPR to prepare the annual AFI Report to Congress, to evaluate and monitor the performance of the AFI program overall and of individual projects, and to inform and support technical assistance efforts. The AFI PPR would fulfill AFI Act reporting requirements and program purposes.

The AFI PPR will be submitted quarterly: Three times per year using an abbreviated short form and one time using a long form. Both draft data collection instruments are available for review online at https://idaresources.acf.hhs.gov/AFIPPR.

Note: This request does not affect financial reporting requirements for AFI grantees. The SF-425 will still be required semiannually throughout the grant project period with a final report due 90 days after the grant project period ends.

Respondents: Assets for Independence (AFI) program grantees.

Annual Burden Estimates
Instrument | Number of respondents | Number of responses per respondent | Average burden hours per response | Total burden hours
AFI PPR Short Form | 300 | 3 | 0.5 | 450
AFI PPR Long Form | 300 | 1 | 4 | 1200

Estimated Total Annual Burden Hours: 1,650.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance Officer.

[FR Doc. 2015-12096 Filed 5-18-15; 8:45 am]

BILLING CODE 4184-01-P